COMMITTEE FOR PURCHASE FROM PEOPLE WHO ARE BLIND OR SEVERELY DISABLED

Procurement List Additions

AGENCY: Committee for Purchase From People Who Are Blind or Severely Disabled.

ACTION: Additions to Procurement List.

SUMMARY: This action adds to the Procurement List products and services to be furnished by nonprofit agencies employing persons who are blind or have other severe disabilities.

DATES: Effective Date: August 20, 2006.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, Telephone: (703) 603-7740, Fax: (703) 603-0655, or e-mail SKennerly@jwod.gov.

SUPPLEMENTARY INFORMATION: On May 19 and May 26, 2006, the Committee for Purchase From People Who Are Blind or Severely Disabled published notices (71 FR 29121; 30377) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

Product/NSN: Cup, Water Canteen.

8465-00-165-6838.

NPA: The Lighthouse for the Blind, Inc. (Seattle Lighthouse), Seattle, Washington.

Contracting Activity: Defense Supply Center Philadelphia, Philadelphia, Pennsylvania.

Product/NSN: Kit, First Aid, Evasion & Escape.

6545-01-534-0925—Medical Module.

6545-01-534-0935—Survival Module.

6545-01-534-0894—Kit, First Aid, Evasion & Escape.

NPA: Friendship Industries, Inc., Harrisonburg, VA.

Contracting Activity: U.S. Air Force—AFMLO/USAF, Frederick, MD.

Product/NSN: Target, Silhouette.

6920-00-071-4589 (50 Plastic).

6920-00-071-4780 (25 Green Plastic).

NPA: North Central Sight Services, Inc., Williamsport, Pennsylvania.

Contracting Activity: Defense Supply Center Philadelphia, Philadelphia, Pennsylvania.

Services

Service Type/Location: Custodial Services, Grand Prairie Reserve Center Complex, Buildings 303, 308, 370, 397, 310 Army Drive, Grand Prairie, Texas.

NPA: Goodwill Industries of Fort Worth, Inc., Fort Worth, Texas.

Contracting Activity: 90th Regional Readiness Command, North Little Rock, Arkansas.

Service Type/Location: Custodial Services, Stewart Air National Guard Base, 105th Airlift Wing/LGC, One Militia Way, Building 204, Newburgh, New York.

NPA: New Dynamics Corporation, Middletown, New York.

Contracting Activity: 105th Airlift Wing/LGC, Newburgh, New York.

Service Type/Location: Grounds Maintenance, Athletic Fields—Basewide, Patrick Air Force Base, Florida.

NPA: Brevard Achievement Center, Inc., Rockledge, Florida.

Contracting Activity: 45th Contracting Squadron/LGCAA, Patrick AFB, Florida.

Service Type/Location: Laundry Service, Armed Forces Retirement Home—Washington (AFRH-W), 3700 North Capitol Street, NW., Washington, DC.

NPA: Rappahannock Goodwill Industries, Inc., Fredericksburg, Virginia.

Contracting Activity: Bureau of Public Debt, Parkersburg, West Virginia.

This action does not affect current contracts awarded prior to the effective date of this addition or options that may be exercised under those contracts.

G. John Heyer,
General Counsel.

[FR Doc. E6-11616 Filed 7-20-06; 8:45 am]

BILLING CODE 6353-01-P